DEPARTMENT OF HEALTH AND HUMAN SERVICES

Centers for Disease Control and Prevention

[Docket No. 30DAY-02-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

The National Health and Nutrition Examination Survey (NHANES) OMB No. 0920-0237—Revision—The National Health and Nutrition Examination Survey (NHANES) has been conducted in several cycles since 1970 by the National Center for Health Statistics (NCHS), Centers for Disease Control and Prevention (CDC). The current cycle of NHANES began in February 1999. The survey will now be conducted on a continuous, rather than episodic, basis. About 6,700 individuals receive a health interview in their homes annually; of these, 5,000 persons complete a physical examination. Participation in the survey is voluntary and confidential.

NHANES programs produce descriptive statistics which measure the health and nutritional status of the U.S. population. Through the use of questionnaires, physical examinations, and laboratory tests, NHANES studies the relationship between diet, nutrition and health in a representative sample of the United States civilian, noninstitutionalized population. NHANES monitors the prevalence of chronic conditions and risk factors such as coronary heart disease, arthritis, osteoporosis, pulmonary and infectious diseases, diabetes, high blood pressure, high cholesterol, obesity, smoking, drug and alcohol use, environmental exposures, and diet. NHANES data are used to establish the norms for the general population against which health care providers can compare such patient characteristics as height, weight, and nutrient levels in the blood. Data from NHANES can be compared to those from previous surveys to monitor changes in the health of the U.S. population. NHANES will also establish a national probability sample of genetic material for future genetic research for susceptibility to disease.

Users of NHANES data include Congress; the World Health Organization; Federal agencies such as NIH, EPA, and USDA; private groups such as the American Heart Association; schools of public health; private businesses; individual practitioners; and administrators. NHANES data are used to establish, monitor, and evaluate long-term national health objectives, food fortification policies, programs to limit environmental exposures, immunization guidelines and health education and disease prevention programs.

The annualized burden for this collection is 51,741 hours.

Respondent | Number of responses | Responses/ respondent | Hours/ response
Screener (Scrn) Interview only | 13,750 | 1 | 10/60
Scrn Household (HH) Interview only | 750 | 1 | 26/60
Scrn HH Sample Person (SP) Interview only | 1,050 | 1 | 1 6/60
Scrn/HH/SP & Primary Medical Exam (Prim MEC) only | 5,250 | 1 | 6 40/60
Scrn/HH/SP, Prim MEC & full MEC replicate exam | 255 | 1 | 11 40/60
Scrn/HH/SP MEC & dietary replicate interview only | 1,050 | 1 | 9 1/60
Home Exam | 70 | 1 | 2 36/60
Optional Studies | 1,180 | 1 | 15/60
Hepatitis C follow-up | 100 | 1 | 30/60

Dated: November 8, 2000.
Nancy Cheal,
Acting Associate Director for Policy, Planning and Evaluation, Centers for Disease Control and Prevention (CDC).

[FR Doc. 00-29209 Filed 11-14-00; 8:45 am]

BILLING CODE 4163-18-P